SOCIAL SECURITY ADMINISTRATION

Agency Information Collection Activities: Proposed Request

In compliance with the Paperwork Reduction Act of 1995 (44 U.S.C 3507), SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

The information collection listed below will be submitted to OMB within 60 days from the date of this notice. Therefore, comments and recommendations regarding the information collection would be most useful if received by the Agency within 60 days from the date of the publication of this notice. Comments should be directed to the SSA Reports Clearance Officer at the address listed at the end of the notice. You can obtain a copy of the collection instrument by calling the SSA Reports Clearance Officer on (410) 965-4145, or by writing to him.

Internet Retirement Insurance Benefit (IRIB) Application—0960-0618. SSA intends to offer its customers another way to apply for retirement insurance benefits. Currently, applicants for retirement insurance benefits complete an SSA-1 by telephone or in person with the assistance of an SSA employee. The IRIB application will enable individuals to complete the application on their own electronically over the Internet. The information collected will be used by SSA to determine entitlement to retirement insurance benefits. SSA plans to implement the IRIB application nationally later this year. The respondents are individuals who apply for retirement insurance benefits over the Internet.

Number of Respondents: 139,308.

Frequency of Response: 1.

Average Burden Per Response: 20 minutes.

Estimated Annual Burden: 46,436 hours.

SSA Address

Social Security Administration, DCFAM, Attn: Frederick W. Brickenkamp 6401 Security Blvd., 1-A-21 Operations Bldg., Baltimore, MD 21235.

Dated: June 15, 2000.
Frederick W. Brickenkamp,
Reports Clearance Officer, Social Security Administration.

[FR Doc. 00-15712 Filed 6-21-00; 8:45 am]

BILLING CODE 4191-02-P